DEPARTMENT OF VETERANS AFFAIRS

[OMB Control No. 2900-NEW]

Agency Information Collection Activity Under OMB Review: VA Educational Assistance Program Feedback

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 4, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Danny S. Green, Acting Department Clearance Officer—OI&T (005R1B), Department of Veterans Affairs, 810 Vermont Avenue NW, Washington, DC 20420, (202) 421-1354 or email Danny.Green2@va.gov. Please refer to “OMB Control No. 2900-NEW” in any correspondence.

SUPPLEMENTARY INFORMATION:

Authority: Public Law 114-315 Section 414; 44 U.S.C. 3501-3521.

Title: VA Educational Assistance Program Feedback.

OMB Control Number: 2900-NEW.

Type of Review: New collection.

Abstract: Public Law 114-315 Section 414 requires VA to obtain feedback from individuals using their entitlement to educational assistance under the educational assistance programs administered by the Secretary of Veteran Affairs. Program beneficiaries are asked to provide feedback on the information required by Public Law 114-315 Section 414. The information collected is from individuals who have used or are using their entitlement to education assistance under chapters 30, 32, 33, and 35 of title 38, United States Code, to pursue a program of education or training. The feedback from the survey assesses the outcomes, situations, and decisions by the beneficiaries of the educational assistance chapters under title 38 United States Code.

An agency may not conduct or sponsor, and a person is not required to respond to a collection of information unless it displays a currently valid OMB control number. The Federal Register Notice with a 60-day comment period soliciting comments on this collection of information was published at Vol. 83, No. 188, Thursday, September 27, 2018, page 48897-48898.

Affected Public: Individuals and Households.

Estimated Annual Burden: 833 hours.

Estimated Average Burden per Respondent: 5 minutes.

Frequency of Response: Once.

Estimated Number of Respondents: 10,000.

By direction of the Secretary.
Cynthia D. Harvey-Pryor,
Government Information Specialist, Department of Veterans Affairs.

[FR Doc. 2018-26377 Filed 12-4-18; 8:45 am]

BILLING CODE 8320-01-P